DEPARTMENT OF TRANSPORTATION

Federal Aviation Administration

14 CFR Part 71

[Docket No. FAA-2025-0371; Airspace Docket No. 25-ANM-128]

RIN 2120-AA66

Revocation of Jet Route J-534 and Very High Frequency Omnidirectional Range (VOR) Federal Airway V-349, Amendment of VOR Federal Airways V-23 and V-165, and Establishment of Canadian Area Navigation (RNAV) Route T-645 in Northwestern United States

AGENCY: Federal Aviation Administration (FAA), DOT.

ACTION: Final rule.

SUMMARY: This action revokes Jet Route J-534 and Very High Frequency Omnidirectional Range (VOR) Federal Airway V-349, amends VOR Federal Airways V-23 and V-165, and establishes Canadian Area Navigation (RNAV) Route T-645 in the Northwestern United States. The FAA is taking this action due to the pending decommissioning of the VOR portion of the Whatcom (HUH), WA, VOR/Tactical Air Navigation (VORTAC) navigational aid (NAVAID). The VOR portion of the Whatcom VORTAC is being decommissioned in support of the FAA's VOR Minimum Operational Network (MON) program. There are two airways that use the naming convention of V-23. One is located in the state of Hawaii, and the other is located in the state of California. This action affects the V-23 in the state of California and does not make any changes to the V-23 in the state of Hawaii.

DATES: Effective date 0901 UTC, November 27, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from the Office of the Federal Register's website at www.federalregister.gov.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service route structure as necessary to preserve the safe and efficient flow of air traffic within the National Airspace System.

History

The FAA published an NPRM for Docket No. FAA-2025-0371 in the Federal Register (90 FR 11392; March 6, 2025), proposing to revoke Jet Route J-534 and VOR Federal Airway V-349, amend VOR Federal Airways V-23 and V-165, and establish Canadian RNAV Route T-645 in the Northwestern United States. Interested parties were invited to participate in this rulemaking effort by submitting written comments on the proposal to the FAA. No comments were received.

Differences From the NPRM

The airway description listed in the NPRM included the waypoints (WP) ITGIL and VOGAD. These route points are currently used in Canadian airspace, and NAV Canada intended to relocate these points to the border of the United States and Canada for inclusion in the route description of Canadian RNAV Route T-645. After the publication of the NPRM, NAV Canada advised the FAA that it would be unable to accommodate the relocation of the WPs in time to meet the FAA's publication timelines. Therefore, this rule renames the WP ITGIL listed in the NPRM to PUDGE and renames the WP VOGAD listed in the NPRM to ROSSS. This rule only changes the name of the WPs; their locations remain the same as published in the NPRM. Because this is only an administrative change that does not alter airspace boundaries or impose additional regulatory requirements, the FAA finds that good cause exists for not re-circulating the NPRM for public notice and comment.

Incorporation by Reference

Jet Routes are published in paragraph 2004, VOR Federal Airways are published in paragraph 6010, and Canadian Navigation Routes are published in paragraph 6013, of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 by revoking Jet Route J-534 and VOR Federal Airway V-349, amending VOR Federal Airways V-23 and V-165, and establishing Canadian RNAV Route T-645 in the Northwestern United States. There are two airways that use the naming convention of V-23; one is in Hawaii, and the other is in California. This action only affects the V-23 in the state of California and does not make any changes to the V-23 in the state of Hawaii. The FAA is taking these actions due to the pending decommissioning of the VOR portion of the Whatcom (HUH), WA, VORTAC. The VOR portion of the Whatcom VORTAC is being decommissioned in support of the FAA's VOR MON program.

J-534: Prior to this final rule, J-534 extended between the intersection of the Seattle, WA, VORTAC 033° and the Whatcom, WA, VORTAC, 090° radials and the Williams Lake, BC, Canada, VORTAC, excluding the airspace within Canada. The FAA is revoking J-534 in its entirety.

V-349: Prior to this final rule, V-349 extended between the Whatcom, WA, VORTAC and Williams Lake, BC, Canada, VORTAC, excluding the airspace within Canada. The FAA is revoking V-349 in its entirety.

V-23: Prior to this final rule, V-23 in California, extended between the Mission Bay, CA, VORTAC and the United States and Canadian border via the Whatcom, WA, VORTAC 290° radial. The FAA is amending V-23 by revoking the segment that extends between the Paine, WA, VOR/DME and the Whatcom VORTAC. As amended, V-23 in California extends between the Mission Bay VORTAC and the Paine VOR/DME.

V-165: Prior to this final rule, V-165 extended between the Mission Bay, CA, VORTAC and the Whatcom, WA, VORTAC. The FAA is amending V-165 by revoking the segment that extends between the Penn Cove, WA, VOR/DME and the Whatcom VORTAC. As amended, V-165 extends between the Mission Bay VORTAC and the Penn Cove VOR/DME.

T-645: T-645 is being established as a new RNAV route to serve as an additional mitigation to the aforementioned airspace actions. T-645 extends between the EPSOP, WA, WP and the IKLIT, WA, WP.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action revoking Jet Route J-534 and VOR Federal Airway V-349, amending VOR Federal Airways V-23 and V-165, and establishing Canadian RNAV Route T-645 in Northwestern United States qualifies for categorical exclusion under the National Environmental Policy Act (42 U.S.C. 4321, et seq.) and in accordance with FAA Order 1050.1G, FAA National Environmental Policy Act Implementing Procedures, paragraph B-2.5(a), which categorically excludes from further environmental impact review rulemaking actions that designate or modify classes of airspace areas, airways, routes, and reporting points (see 14 CFR part 71, Designation of Class A, B, C, D, and E Airspace Areas; Air Traffic Service Routes; and Reporting Points); paragraph B-2.5(i), which categorically excludes from further environmental review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima; and paragraph B-2.5(k), which categorically excludes from further environmental impact review the publication of existing air traffic control procedures that do not essentially change existing tracks, create new tracks, change altitude, or change concentration of aircraft on these tracks. As such, this action is not expected to result in any potentially significant environmental impacts. In accordance with FAA's NEPA implementation policy and procedures regarding extraordinary circumstances, the FAA has reviewed this action for factors and circumstances in which a normally categorically excluded action may have a significant environmental impact requiring further analysis. The FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-534 [Removed]

* * * * *

Paragraph 6010(a) Domestic VOR Federal Airways.

* * * * *

V-349 [Removed]

* * * * *

V-23 [Amended]

From Mission Bay, CA; Oceanside, CA; 24 miles, six miles wide, Seal Beach, CA; six miles wide, INT Seal Beach 287° and Los Angeles, 138° radials; Los Angeles; Gorman, CA; Shafter, CA; to INT Shafter 338° and Panoche 096° radials. From INT Panoche 035° and Linden 141° radials; Linden, CA; Sacramento, CA; INT Sacramento 346° and Red Bluff, CA, 158° radials; Red Bluff; 58 miles, 95 MSL, Fort Jones, CA; Rogue Valley, OR; Eugene, OR; Battle Ground, WA; INT Battle Ground 350° and Seattle, WA, 197° radials; 21 miles, 45 MSL, Seattle; Paine, WA.

* * * * *

V-165 [Amended]

From Mission Bay, CA; INT Mission Bay 270° and Oceanside, CA, 177° radials; Oceanside; 24 miles, 6 miles wide, Seal Beach, CA; 6 miles wide, INT Seal Beach 287° and Los Angeles, CA, 138° radials; Los Angeles; INT Los Angeles 357° and Lake Hughes, CA, 154° radials; Lake Hughes; INT Lake Hughes 344° and Shafter, CA, 137° radials; Shafter; Tule, CA; INT Tule 339° and Avenal, CA, 042° radials. From INT Squaw Valley, CA 133° and Mustang, NV, 183° radials; 72 miles, 50 miles, 131 MSL, Mustang, NV; 40 miles, 12 AGL, 7 miles, 115 MSL, 54 miles, 135 MSL, 81 miles, 12 AGL, Lakeview, OR; 5 miles, 72 miles, 90 MSL, Deschutes, OR; 16 miles, 19 miles, 95 MSL, 24 miles, 75 MSL, 12 miles, 65 MSL, Newberg, OR; 32 miles, 45 MSL, INT Newberg 355° and Olympia, WA, 195° radials; Olympia; Penn Cove, WA.

* * * * *

Paragraph 6013 Canadian Area Navigation Routes.

* * * * *

T-645 EPSOP, WA to IKLIT, WA [New]
EPSOP, WA | WP | (Lat. 48°49′55.86″ N, long. 123°00′36.81″ W)
PUDGE, WA | WP | (Lat. 48°55′50.99″ N, long. 122°25′36.90″ W)
ROSSS, WA | WP | (Lat. 48°57′21.70″ N, long. 122°16′28.81″ W)
IKLIT, WA | WP | (Lat. 49°00′08.80″ N, long. 122°12′49.06″ W)

* * * * *

Issued in Washington, DC, on September 5, 2025.
Brian Eric Konie,
Acting Manager, Rules and Regulations Group.

[FR Doc. 2025-17373 Filed 9-9-25; 8:45 am]

BILLING CODE 4910-13-P